DEPARTMENT OF VETERANS AFFAIRS

[OMB Control No. 2900-0688]

Proposed Information Collection (Procedures, and Security for Government Financing) Activity; Comment Request

AGENCY: Office of Management, Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to reduce or suspend contract payments and to determine if the contractor has adequate security to warrant payment in advance.

DATES: Written comments and recommendations on the proposed collection of information should be received on or before January 26, 2009.

ADDRESSES: Submit written comments on the collection of information through the Federal Docket Management System (FDMS) www.Regulations.gov; or to Arita Tillman, Acquisition Policy Division (049P1), Department of Veterans Affairs, 810 Vermont Avenue, NW., Washington, DC 20420; or e-mail: arita.tillman@va.gov. Please refer to “OMB Control No. 2900-0688” in any correspondence. During the comment period, comments may be viewed online through FDMS.

FOR FURTHER INFORMATION CONTACT: Arita Tillman at (202) 461-6859, FAX 202-273-6229.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, (OM) invites comments on: (1) Whether the proposed collection of information is necessary for the proper performance of (OM)'s functions, including whether the information will have practical utility; (2) the accuracy of (OM)'s estimate of the burden of the proposed collection of information; (3) ways to enhance the quality, utility, and clarity of the information to be collected; and (4) ways to minimize the burden of the collection of information on respondents, including through the use of automated collection techniques or the use of other forms of information technology.

Titles:

a. Department of Veterans Affairs Acquisition Regulation (VAAR) 832.006-4, Procedures.

b. Department of Veterans Affairs Acquisition Regulation (VAAR) 832.202-4, Security for Government Financing.

OMB Control Number: 2900-0688.

Type of Review: Extension of a currently approved collection.

Abstract: Data collected under VAAR 832.006-4 will be used to assess a contractor's overall financial condition, and ability to continue contract performance if payments are reduced or suspended upon a finding of fraud. VA will use the data collected under VAAR 832.202-4 to determine whether or not a contractor has adequate security to warrant an advance payment.

Affected Public: Businesses or other for-profits.

Estimated Annual Burden:

a. VAAR 832.006-4, Procedures—50 hours.

b. VAAR 832.202-4, Security for Government Financing—10 hours.

Estimated Average Burden Per Respondent:

a. VAAR 832.006-4, Procedures—5 hours.

b. VAAR 832.202-4, Security for Government Financing—1 hour.

Frequency of Response: On occasion.

Estimated Number of Respondents:

a. VAAR 832.006-4, Procedures—10.

b. VAAR 832.202-4, Security for Government Financing—10.

Dated: November 19, 2008.
By direction of the Secretary.
Denise McLamb,
Program Analyst, Records Management Service.

[FR Doc. E8-28190 Filed 11-25-08; 8:45 am]

BILLING CODE 8320-01-P